DEPARTMENT OF HEALTH AND HUMAN SERVICES

National Institutes of Health

National Institute on Alcohol Abuse and Alcoholism; Amended Notice of Meeting

Notice is hereby given of a change in the meeting of the National Institute on Alcohol Abuse and Alcoholism Special Emphasis Panel, March 28, 2017, 08:30 a.m. to March 28, 2017, 05:00 p.m., National Institutes of Health, National Institute on Alcohol Abuse and Alcoholism, 5635 Fishers Lane, Terrace Conference Room 508, Rockville, MD, 20892 which was published in the Federal Register on November 29, 2016, 81FR85983.

This notice is amended to change the meeting date from March 28, 2017 to March 29, 2017. The meeting is closed to the public.

Dated: December 12, 2016.
Melanie J. Pantoja,
Program Analyst, Office of Federal Advisory Committee Policy.

[FR Doc. 2016-30219 Filed 12-15-16; 8:45 am]

BILLING CODE 4140-01-P